DEPARTMENT OF THE TREASURY

Alcohol and Tobacco Tax and Trade Bureau

27 CFR Part 41

Importation of Tobacco Products and Cigarette Papers and Tubes

CFR Correction

In Title 27 of the Code of Federal Regulations, parts 1 to 399, revised as of April 1, 2005, on page 894, in § 41.86, paragraph (d), in the last sentence remove “ATF” and add in its place “TTB,” and on page 902, in § 41.126, last sentence, remove “regional director (compliance)” and add in its place “appropriate TTB officer.”

[FR Doc. 06-55506 Filed 2-13-06; 8:45 am]

BILLING CODE 1505-01-D